DEPARTMENT OF THE INTERIOR

Bureau of Land Management

[LLNVW00000.L5110000.GN0000.LVEMF1504350.15X MO#4500088392]

Notice of Intent To Prepare an Environmental Impact Statement for the Proposed Marigold Mine Plan of Operations—Mackay Optimization Project Amendment, Humboldt County, NV

AGENCY: Bureau of Land Management, Interior.

ACTION: Notice of Intent.

SUMMARY: In compliance with the National Environmental Policy Act of 1969, as amended (NEPA), and the Federal Land Policy and Management Act of 1976, as amended, the Bureau of Land Management (BLM) Humboldt River Field Office, Winnemucca, Nevada intends to prepare an Environmental Impact Statement (EIS) to analyze the potential impacts of approving an expansion to the existing gold mining operation in Humboldt County, Nevada. This notice is announcing the beginning of the scoping process to solicit public comments and identify issues to be considered in the EIS. The notice also serves to initiate public consultation, as required under the National Historic Preservation Act.

DATES: This notice initiates the public scoping process for the EIS. Comments on issues may be submitted in writing until April 4, 2016. The date(s) and location(s) of any scoping meetings will be announced at least 15 days in advance through local media, newspapers, and the BLM Web site at: http://www.blm.gov/nv/st/en/fo/wfo.html. In order to be included in the Draft EIS, all comments must be received prior to the close of the 30-day scoping period or 15 days after the last public meeting, whichever is later. We will provide additional opportunities for public participation upon publication of the Draft EIS.

ADDRESSES: You may submit comments related to the Marigold Mine—Mackay Optimization Project by any of the following methods:

• Web site: http://www.blm.gov/nv/st/en/fo/wfo.html

• Email: wfoweb@blm.gov. Include Marigold Mine EIS Comments in the subject line.

• Fax: 775-623-1503.

• Mail: BLM Winnemucca District, Humboldt River Field Office, 5100 E. Winnemucca Blvd., Winnemucca, NV 89445.

Documents pertinent to this proposal may be examined at the Humboldt River Field Office.

FOR FURTHER INFORMATION CONTACT: Jeanette Black, telephone 775-623-1500; address BLM Winnemucca District, Humboldt River Field Office, 5100 E. Winnemucca Blvd., Winnemucca, NV 89445; email jblack@blm.gov. Contact Ms. Black to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, Marigold Mining Company, a wholly-owned subsidiary of Silver Standard Resources Inc., has requested to modify its approved Plan of Operations by expanding its operations at the existing Marigold Mine, which is located adjacent to Battle Mountain approximately 35 miles southeast of Winnemucca, Humboldt County, Nevada; and 13 miles northwest of Battle Mountain, Lander County, Nevada. The mine is currently authorized up to a disturbance of 5,720 acres (approximately 3,275 acres of private land and 2,445 acres of public land), which was permitted under a series of Environmental Impact Statements and Environmental Assessments from July 1988 through October 2013.

The proposed action is for the BLM to approve as proposed the company's changes to its Plan of Operations. The proposed changes presented under this Plan of Operations modification would encompass 1,893 acres of new disturbance (approximately 843 acres of public land and 1,050 acres of private land), and include a re-classification of the type of authorized disturbance of approximately 706 acres of which 306 acres are public land and 400 acres are private land. If approved, the proposed modification would increase the mine life by up to 10 years. All proposed disturbance would be within the existing approved Plan boundary and includes the following: Combine four of the existing and authorized open pits (Target 1, Target 2, Target 3, and East Hill) to become a single open pit to be renamed the Mackay Pit; combine the existing and approved Terry Zone and Section 8 Pits to become the Mackay North Pit; increase the size of the authorized Section 5 North Pit; dewater the Mackay Pit and Mackay North Pit at a rate of up to 6,000 gallons per minute (gpm) with an average rate of about 1,500 to 2,000 gpm; construct and operate six rapid infiltration basins (RIBs); construct and operate new production, dewatering, and monitoring wells with associated roads, power, and pipelines; create one new waste rock storage area (WRSA) (Section 5 North) and expand the Northeast and Northwest Expansion WRSAs; construct heap leach processing pad (HLP) cells 22, 23, and 24; construct new process ponds on existing disturbance; construct two new carbon column trains on existing disturbance; relocate the county road called Buffalo Valley Road to accommodate the mine changes; re-establish a private land access road to land holdings in Section 30; relocate the existing 120-kV power line (right-of-way held by NV Energy); and move the planned location of the authorized but not yet constructed utility corridor.

The purpose of the public scoping process is to determine relevant issues that will influence the scope of the environmental analysis, including alternatives, and guide the process for developing the EIS. At present, the BLM has identified the following preliminary issues: (a) The formation of a pit lake after completion of mining activities, and ensuring that there is neither degradation of waters of the state nor undue or unnecessary degradation of public lands; (b) potential impacts to wildlife habitat; and (c) potential impacts to cultural sites. Application of mitigation hierarchy strategies will be addressed for on-site, regional, and compensatory mitigation appropriate to the types of impacts and resource objectives.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources in the context of both NEPA and the NHPA.

The BLM will consult with Indian tribes on a government-to-government basis in accordance with Executive Order 13175, Secretarial Order 3317, and other policies. Tribal concerns, including but not limited to, impacts on Indian trust assets and potential impacts to cultural resources, will be given due consideration. Federal, State, and local agencies, along with tribes and other stakeholders that may be interested in or affected by the proposed Marigold Mine Plan of Operations—Mackay Optimization Project that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Stephen Sappington,
Field Manager, Humboldt River Field Office.

[FR Doc. 2016-04806 Filed 3-3-16; 8:45 am]

BILLING CODE 4310-HC-P